DEPARTMENT OF THE INTERIOR

National Park Service

[NPS-WASO-NAGPRA-NPS0035616; PPWOCRADN0-PCU00RP14.R50000]

Notice of Inventory Completion: California State University, Fullerton, Fullerton, CA

AGENCY: National Park Service, Interior.

ACTION: Notice.

SUMMARY: In accordance with the Native American Graves Protection and Repatriation Act (NAGPRA), the California State University, Fullerton has completed an inventory of human remains and has determined that there is a cultural affiliation between the human remains and Indian Tribes or Native Hawaiian organizations in this notice. The human remains were removed from Kings County, CA.

DATES: Repatriation of the human remains in this notice may occur on or after May 17, 2023.

ADDRESSES: Maria Estela Zarate, California State University, Fullerton, 2600 Nutwood Avenue, Suite 1060, Fullerton, CA 92831, telephone (657) 278-4514, email mazarate@Fullerton.edu.

SUPPLEMENTARY INFORMATION: This notice is published as part of the National Park Service's administrative responsibilities under NAGPRA. The determinations in this notice are the sole responsibility of California State University, Fullerton. The National Park Service is not responsible for the determinations in this notice. Additional information on the determinations in this notice, including the results of consultation, can be found in the inventory or related records held by California State University, Fullerton.

Description

Human remains representing, at minimum, one individual were removed from Kings County, CA. The human remains were uncovered during operations at a gypsum quarry that operated from 1954-1957 and from 1960-1962. The precise date of removal of the human remains is not known. The owner of the quarry, Mr. Alva McPhaill, gave the human remains to Mr. Richard Flewelling of The Flintkote Company. The precise date of that transfer is not known. McPhaill reportedly collected artifacts in the area of the gypsum quarry. At an unknown date, but likely prior to 1980, Mr. Flewelling donated the human remains to California State University, Fullerton. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical and expert opinion.

Determinations

Pursuant to NAGPRA and its implementing regulations, and after consultation with the appropriate Indian Tribes and Native Hawaiian organizations, the California State University, Fullerton has determined that:

• The human remains described in this notice represent the physical remains of one individual of Native American ancestry.

• There is a relationship of shared group identity that can be reasonably traced between the human remains described in this notice and the Santa Rosa Indian Community of the Santa Rosa Rancheria, California.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after May 17, 2023. If competing requests for repatriation are received, California State University, Fullerton must determine the most appropriate requestor prior to repatriation. Requests for joint repatriation of the human remains are considered a single request and not competing requests. California State University, Fullerton is responsible for sending a copy of this notice to the Indian Tribe identified in this notice.

Authority: Native American Graves Protection and Repatriation Act, 25 U.S.C. 3003, and the implementing regulations, 43 CFR 10.9, 10.10, and 10.14.

Dated: March 29, 2023.
Melanie O'Brien,
Manager, National NAGPRA Program.

[FR Doc. 2023-08056 Filed 4-14-23; 8:45 am]

BILLING CODE 4312-52-P